LEGAL SERVICES CORPORATION

Sunshine Act Meeting of the Board of Directors Finance Committee

Times and Dates: The Finance Committee of the Legal Services Corporation's Board of Directors will meet at 11 a.m. Eastern Time, on October 14, 2008.

Location: Legal Services Corporation Headquarters, 3rd Floor Conference Center, 3333 K Street, NW., Washington, DC.

Public Observation by Telephone: Members of the public who wish to listen to the meeting live may do so by following the telephone call-in directions provided below. You are asked to keep your telephone muted in order to eliminate background noises. Comments from the public may be solicited from time-to-time by the Committee's Chairman.

Call-In Directions

• Call toll-free number 1-800-988-9769;

• When prompted, enter the following numeric pass code: 13523;

• When connected to the call, please “mute” your telephone immediately. You may do so by dialing “*6.”

Status Of Meeting: Open.

Matters to be Considered:

Agenda

1. Approval of agenda.

2. Presentation on FY 2009 Budget Calculation error.

—Presentation by David Richardson

—Comments by Charles Jeffress

3. Presentation on Management's Recommendation for LSC's FY 2010 Budget Request to Congress.

—Presentation by Charles Jeffress

—Comments by John Constance

4. Public Comment.

—Robert Stein, on behalf of SCLAID

—Don Saunders, on behalf of NLADA

—Other

5. Consider and act on recommending to the Board Resolution # 2008-014, A Resolution Adopting LSC's FY 2010 Budget Request to Congress.

6. Consider and act on other business.

7. Consider and act on adjournment of meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: October 7, 2008.
Victor M. Fortuno,
Vice President for Legal Affairs, General Counsel & Corporate Secretary.

[FR Doc. E8-24190 Filed 10-7-08; 4:15 pm]

BILLING CODE 7050-01-P